DEPARTMENT OF LABOR

Employment and Training Administration

[TA-W-51,382]

OEM Worldwide, Spearfish, South Dakota; Notice of Termination of Investigation

Pursuant to section 221 of the Trade Act of 1974, as amended, an investigation was initiated on April 1, 2003, in response to a petition filed by a company official on behalf of workers at OEM Worldwide, Spearfish, South Dakota.

The petitioner has requested that the petition be withdrawn. Consequently, the investigation has been terminated.

Signed in Washington, DC, this 9th day of May, 2003.
Linda G. Poole,
Certifying Officer, Division of Trade Adjustment Assistance.

[FR Doc. 03-12562 Filed 5-19-03; 8:45 am]

BILLING CODE 4510-30-P